DEPARTMENT OF HEALTH AND HUMAN SERVICES

National Biodefense Science Board

AGENCY: Office of the Assistant Secretary for Preparedness and Response (ASPR), Department of Health and Human Services (HHS).

ACTION: Notice.

SUMMARY: The National Biodefense Science Board (NBSB or the Board) is authorized under Section 319M of the Public Health Service (PHS) Act, as added by Section 402 of the Pandemic and All-Hazards Preparedness Act of 2006 and amended by Section 404 of the Pandemic and All-Hazards Preparedness Reauthorization Act. The Board is governed by the Federal Advisory Committee Act, which sets forth standards for the formation and use of advisory committees. The NBSB provides expert advice and guidance on scientific, technical, and other matters of special interest to the Department regarding current and future chemical, biological, nuclear, and radiological agents, whether naturally occurring, accidental, or deliberate.

DATES: The NBSB will meet in public (virtually) on September 28, 2021, to discuss high priority issues related to national public health emergency preparedness and response. A more detailed agenda will be available on the NBSB meeting website https://www.phe.gov/nbsb.

ADDRESSES: Members of the public may attend the meeting via a toll-free phone number or Zoom teleconference, which requires pre-registration. The meeting link to pre-register will be posted on https://www.phe.gov/nbsb. Members of the public may provide written comments or submit questions for consideration by the NBSB at any time via email to NBSB@hhs.gov. Members of the public are also encouraged to provide comments after the meeting.

FOR FURTHER INFORMATION CONTACT: CAPT Christopher L. Perdue, MD, MPH, NBSB Designated Federal Officer, Washington, DC, Office, 202-401-5837, NBSB@hhs.gov.

SUPPLEMENTARY INFORMATION: The NBSB invites those who are involved in or represent a relevant industry, academia, health profession, health care consumer organization, or state, Tribal, territorial or local government to request up to seven minutes to address the board in person via Zoom. Requests to provide remarks to the NBSB during the public meeting must be sent to NBSB@hhs.gov at least 15 days prior to the meeting along with a brief description of the topic. We would specifically like to request inputs from the public on challenges, opportunities, and strategic priorities for national health security and biodefense. Presenters who are selected for the public meeting will have audio only during the meeting. Slides, documents, and other presentation material sent along with the request to speak will be provided to the board members separately. Please indicate additionally whether the presenter will be willing to take questions from the board members (at their discretion) immediately following their presentation (for up to seven additional minutes).

Dawn O'Connell,
Assistant Secretary for Preparedness and Response.

[FR Doc. 2021-19789 Filed 9-13-21; 8:45 am]

BILLING CODE P